DEPARTMENT OF AGRICULTURE

Food and Nutrition Service

Agency Information Collection Activities: Supplemental Nutrition Assistance Program (SNAP) Retailer Applications

AGENCY: Food and Nutrition Service (FNS), USDA.

ACTION: Notice.

SUMMARY: In accordance with the Paperwork Reduction Act of 1995, this notice invites the general public and other public agencies to comment on this proposed information collection. This collection is a revision of a currently approved collection. FNS seeks OMB approval for the burden associated with SNAP application forms and other document requests that are necessary to effectively administer a large population of retailers, varied in type and scope, and ensure that these retailers remain in compliance with program requirements.

DATES: Written comments must be received on or before November 28, 2023.

ADDRESSES: The Food and Nutrition Service, USDA, invites interested persons to submit written comments on this information collection. Comments may be submitted in writing by one of the following methods:

Federal eRulemaking Portal: Go to http://www.regulations.gov. Follow the online instructions for submitting comments electronically.

Mail: Comments should be addressed to Marga Ortiz, Chief, Retailer Policy Branch, Retailer Policy Division, Supplemental Nutrition Assistance Program, 1320 Braddock Place, Alexandria, Virginia 22314.

FNS will summarize all responses to this notice and include them in the request for Office of Management and Budget approval. All comments will be a matter of public record.

FOR FURTHER INFORMATION CONTACT: Requests for additional information or copies of this information collection should be directed to Marga Ortiz at 703-305-2546.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program (SNAP) Store Applications.

Form Numbers: FNS-252; FNS-252-E; FNS-252-FE; FNS-252-R; FNS-252-2; and FNS-252-C.

OMB Control Number: 0584-0008.

Expiration Date: 1/31/2024.

Type of Request: Revision of a currently approved collection.

Abstract:

Section 9(a) of the Food and Nutrition Act of 2008, as amended (7 U.S.C. 2011 et seq.) (the Act), requires that FNS determine the eligibility of retail food stores and certain food service organizations to accept SNAP benefits, and to monitor them for compliance purposes and continued eligibility. FNS is also responsible for requiring updates to application information and reviewing retail food store applications at least once every five years to ensure that each firm is under the same ownership and continues to meet eligibility requirements. FNS relies on the information obtained from applicants to ensure that each retailer continues to meet SNAP eligibility requirements and effectuate the purposes of the program. The forms and other instruments in this information collection are voluntary; however, a retailer may not participate in SNAP without completing an application for FNS approval.

There are six forms associated with this approved Office of Management and Budget (OMB) information collection number 0584-0008—the Supplemental Nutrition Assistance Program Application for Stores, Forms FNS-252 (English and Spanish) and FNS-252-E (paper and online version respectively); Farmer's Market Application, Form FNS-252-FE; Meal Service Application, Form FNS-252-2;Reauthorization Application, Form FNS-252-R (form mailed or available electronically); and the Corporation Supplemental Application, Form FNS-252-C used for individual (chain) stores under a corporation. For new authorizations, the majority of applicants use form FNS-252 or FNS-252-E (paper or online, respectively). FNS-252-E and FNS-252-FE are true online forms with a different format than the paper version. For reauthorization, form FNS-252-R is used. It is available as a paper form and online in the exact same format as the paper form.

In addition to these forms, during new authorization or reauthorization, FNS may conduct an on-site store visit of the firm. The store visit of the firm helps FNS confirm that the information provided on an application is correct. An FNS representative or store visit contractor obtains permission to complete the store visit checklist, photograph the store and asks the store owner or manager about the continued ownership of the store. Previous submissions estimated that the retailer spent one minute interacting with the FNS representative or contractor during the store visit. Under this proposed revision, FNS is increasing the estimate to 10 minutes, which we believe is a more accurate estimate of the time the retailer must spend with the FNS representative or contractor.

Applicants using form FNS-252-E, FNS-252-FE, or electronically accessing FNS-252-R must self-register for a Level 1 access account through the USDA eAuthentication system prior to starting an online application. USDA eAuthentication facilitates the electronic authentication of an individual. Previous submissions included authorization applicants using FNS-252-E and FNS-252-FE but did not include burden estimates for electronic reauthorization applicants registering for eAuthentication access to complete FNS-252-R. Respondents using the electronic version of FNS-252-R are included under the proposed revision, in Table A below.

We are also taking this opportunity to more accurately reflect the burden hours for FNS-252-E and FNS-252-FE by accounting in this notice for time to gather documents. During the preparation of the last submission under Office of Management and Budget (OMB) Control Number 0584-0008, FNS consulted with stakeholders who commented that the burden for gathering information and completing the previous paper form FNS-252 was between 60 to 90 minutes. The Agency used this information to adjust the burden estimate for the paper version, FNS-252, but inadvertently failed to apply it to the electronic forms, FNS-252-E and FNS-252-FE, in the last submission. In Table A, below, we estimate 60 minutes per response for the FNS-252-E and FNS-252-FE and 90 minutes per response for the paper FNS-252, to account for time gathering documents.

We estimate that the average hours per response across all applications for this revised information collection will be 0.54, which is 32.1 minutes. This is an increase of .38 hours compared to the Agency's previous notice under OMB Control Number 0584-0008. The increase is due to our revision of estimated response times to more accurately reflect the burden on respondents, especially the increased estimated response time for the FNS-252-E.

FNS used Fiscal Year 2022 data in our calculations of burden estimates associated with this information collection as this was the most complete data available to us at this time. Table A below clarifies the burden of this information collection. The hours per response vary by the type of application used from 8 minutes to 1.5 hours. There are no recordkeeping, third-party or public disclosure burdens associated with the information collection.

Reporting

Affected Public: For-profit businesses; retail food stores; farmers' markets; military commissaries; and meal services.

Estimated Number of Respondents: 55,708.

Estimated Number of Responses per Respondent: 1.7.

Estimated Total Annual Responses: 95,038.3.

Estimated Time per Response: 0.54 hours.

Estimated Total Annual Burden on Respondents: 50,857.1 hours.

BILLING CODE 3410-30-P

Tameka Owens,
Assistant Administrator, Food and Nutrition Service.

[FR Doc. 2023-21415 Filed 9-28-23; 8:45 am]

BILLING CODE 3410-30-C